FEDERAL ELECTION COMMISSION

Sunshine Act Notice

DATE AND TIME: Thursday, October 11, 2007, at 10 a.m.

PLACE: 999 E Street, NW., Washington, DC (Ninth Floor).

STATUS: This meeting will be open to the public.

THE FOLLOWING ITEM HAS BEEN ADDED TO THE AGENDA: Draft Advisory Opinion 2007-21: U.S. Representative Rush Holt, by counsel, Caroline P. Goodson.

THE FOLLOWING ITEM HAS BEEN WITHDRAWN FROM THE AGENDA: Report of the Audit Division on Edwards for President.

PERSON TO CONTACT FOR INFORMATION: Mr. Robert Biersack, Press Officer, Telephone: (202) 694-1220.

Mary W. Dove,
Secretary of the Commission.

[FR Doc. 07-5054 Filed 10-9-07; 2:31 pm]

BILLING CODE 6715-01-M